FEDERAL COMMUNICATIONS COMMISSION

47 CFR Part 73

[DA 01-374, MM Docket No. 01-41, RM-10058]

Digital Television Broadcast Service; Merced, CA

AGENCY: Federal Communications Commission.

ACTION: Proposed rule.

SUMMARY: The Commission requests comments on a petition filed by Sainte 51, L.P., permittee of station KNSO(TV), NTSC channel 51, Merced, California, requests the substitution of DTV channel 5 for station KNSO(TV)'s assigned DTV 38. DTV Channel 5 can be allotted to Merced, California, in compliance with the principle community coverage requirements of Section 73.625(a) at reference coordinates (37-04-18 N. and 119-25-53 W.). As requested, we propose to allot DTV Channel 5 to Merced with a power of 12.9 and a height above average terrain (HAAT) of 756 meters.

DATES: Comments must be filed on or before April 9, 2001, and reply comments on or before April 24, 2001.

ADDRESSES: Federal Communications Commission, 445 12th Street, SW., Room TW-A325, Washington, DC 20554. In addition to filing comments with the FCC, interested parties should serve the petitioner, or its counsel or consultant, as follows: Anne Goodwin Crump, Fletcher, Heald & Hildreth. P.L.C., 11th Floor, 1300 North 17th Street, Arlington, Virginia 22209-3801 (Counsel for Sainte 51, L.P.).

FOR FURTHER INFORMATION CONTACT: Pam Blumenthal, Mass Media Bureau, (202) 418-1600.

SUPPLEMENTARY INFORMATION: This is a synopsis of the Commission's Notice of Proposed Rule Making, MM Docket No. 01-41, adopted February 13, 2001, and released February 14, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under California is amended by removing DTV Channel 38 and adding DTV Channel 5 at Merced.

Federal Communications Commission.
Barbara A. Kreisman,
Chief, Video Services Division, Mass Media Bureau.

[FR Doc. 01-4208 Filed 2-20-01; 8:45 am]

BILLING CODE 6712-01-U